DEPARTMENT OF COMMERCE

International Trade Administration

[A-570-851]

Certain Preserved Mushrooms from the People's Republic of China: Notice of Second Amended Final Results of Administrative Review

AGENCY: Import Administration, International Trade Administration, Department of Commerce.

SUMMARY: On October 17, 2005, the Department of Commerce (the “Department”) published the notice of amended final results of the antidumping duty administrative review: certain preserved mushrooms from the People's Republic of China (“PRC”), covering the period of review (POR) February 1, 2003, through January 31, 2004. See Notice of Amended Final Results of Antidumping Duty Administrative Review: Certain Preserved Mushrooms from the People's Republic of China, 70 FR 60280 (October 17, 2005) (“Amended Final Results”).¹ We are amending the final results of certain preserved mushrooms from the PRC to correct ministerial errors made in the calculations of the dumping margins for China Processed Food Import & Export Company and its affiliates (collectively, “COFCO”) pursuant to section 751(h) of the Tariff Act of 1930, as amended (the Act). See Certain Preserved Mushrooms from the People's Republic of China: Final Results and Final Rescission, In Part, of Antidumping Duty Administrative Review, 70 FR 54361 (September 14, 2005) (“Final Results”).

¹ The Department did not address comments pertaining to clerical error allegations relating to COFCO's margin in the Amended Final Results because the U.S. Court of International Trade had obtained jurisdiction of those results pursuant to COFCO's complaint. See China Processed Food Import & Export Company v. United States, Court No. 05-00515 (Complaint filed September 19, 2005); see also, Zenith Elecs. Corp. v. United States, 884 F.2d 556, 561 (Fed. Cir. 1989). However, on December 14, 2005, the Court granted leave to the Department to make the necessary corrections to COFCO's margin. See China Processed Food Import & Export Company v. United States, Court No. 05-00515 (Order issued December 14, 2005).

EFFECTIVE DATE: December 28, 2005.

FOR FURTHER INFORMATION CONTACT: Joshua Pierce or Christopher Riker, AD/CVD Operations, Office 9, Import Administration, International Trade Administration, U.S. Department of Commerce, 14th Street and Constitution Avenue NW, Washington, DC 20230; telephone: (202) 482-0961 or (202) 482-3441, respectively.

SUPPLEMENTARY INFORMATION:

Scope of Order

The products covered by this order are certain preserved mushrooms, whether imported whole, sliced, diced, or as stems and pieces. The certain preserved mushrooms covered under this order are the species Agaricus bisporus and Agaricus bitorquis. “Certain Preserved Mushrooms” refer to mushrooms that have been prepared or preserved by cleaning, blanching, and sometimes slicing or cutting. These mushrooms are then packed and heated in containers including, but not limited to, cans or glass jars in a suitable liquid medium, including, but not limited to, water, brine, butter or butter sauce. Certain preserved mushrooms may be imported whole, sliced, diced, or as stems and pieces. Included within the scope of this order are “brined” mushrooms, which are presalted and packed in a heavy salt solution to provisionally preserve them for further processing.

Excluded from the scope of this order are the following: (1) All other species of mushroom, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.²

² On June 19, 2000, the Department affirmed that “marinated,” “acidified,” or “pickled” mushrooms containing less than 0.5 percent acetic acid are within the scope of the antidumping duty order. See “Recommendation Memorandum-Final Ruling of Request by Tak Fat, et al. for Exclusion of Certain Marinated, Acidified Mushrooms from the Scope of the Antidumping Duty Order on Certain Preserved Mushrooms from the People's Republic of China,” dated June 19, 2000. On February 9, 2005, this decision was upheld by the United States Court of Appeals for the Federal Circuit. See Tak Fat v. United States, 396 F.3d 1378 (Fed. Cir. 2005).

The merchandise subject to this order is classifiable under subheadings: 2003.10.0127, 2003.10.0131, 2003.10.0137, 2003.10.0143, 2003.10.0147, 2003.10.0153 and 0711.51.0000 of the Harmonized Tariff Schedule of the United States (“HTSUS”). Although the HTSUS subheadings are provided for convenience and customs purposes, the written description of the scope of this order is dispositive.

Background

On September 14, 2005, the Department published the final results of this administrative review in the Federal Register. See Final Results.

After analyzing all interested parties' comments, we have determined, in accordance with 19 CFR 351.224(e), that ministerial errors existed in the calculations for the Final Results, with respect to COFCO. A ministerial error is defined in Section 751(h) of the Act and further clarified in 19 CFR 351.224(f) as “an error in addition, subtraction, or other arithmetic function, clerical error resulting from inaccurate copying, duplication, or the like, and any other similar type of unintentional error which the Secretary considers ministerial.” For a detailed discussion of these ministerial errors, as well as the Department's analysis, see memorandum from Christopher D. Riker to James C. Doyle, Analysis of COFCO Ministerial Error Allegations, dated December 21, 2005, on file in the Central Records Unit, room B-099 in the main Department building.

Therefore, in accordance with Section 751(h) of the Act and 19 CFR 351.224(e), we are amending the Final Results of the administrative review of certain preserved mushrooms from the PRC for COFCO. The revised weighted-average dumping margin is detailed in the chart below. For the company-specific calculation see memorandum from Christopher D. Riker to the File, Analysis for the Second Amended Final Results of Certain Preserved Mushrooms from the People's Republic of China: COFCO, dated December 21, 2005.

Exporter | Percent
COFCO | 2.67

The Department shall determine, and U.S. Customs and Border Protection shall assess, antidumping duties on all appropriate entries based on the amended final results. For details on the assessment of antidumping duties on all appropriate entries, see Final Results.

These amended final results are published in accordance with sections 751(h) and 777(I)(1) of the Act.

Dated: December 21, 2005.
Joseph A. Spetrini,
Acting Assistant Secretary for Import Administration.

[FR Doc. E5-7982 Filed 12-27-05; 8:45 am]

BILLING CODE 3510-DS-S